Title 3—

The President

Proclamation 7428 of April 17, 2001

National Park Week, 2001

By the President of the United States of America

A Proclamation

The United States boasts an incredible wealth of natural beauty. From rugged coastlines and thick forests to arid deserts and canyons, our diverse landscapes represent a treasured heritage of which all Americans can be proud.

Our country's commitment to the conservation of its open spaces runs deep. The Nation founded Yellowstone National Park in 1872 and thereby generated renewed appreciation for the great outdoors among Americans. Our country's actions inspired other countries to follow suit by establishing their own national parks or equivalent preserves.

Since the establishment of the National Park Service in 1916, our national parks have grown to occupy a special place in the hearts of the American people. As responsible stewards, we must leave them in good condition for those who follow us. By providing additional resources for their preservation and maintenance, we can prevent the deterioration in facilities and infrastructure that threatens their future well-being.

National parks are a testament to the natural wonders of our mountains, valleys, rivers, and streams. They remind us to take a break from the busy pace of modern society to experience the simpler pleasures of life and provide unique opportunities for personal recreation. Whether camping in Yosemite National Park or boating along Apostle Islands National Lakeshore, people of all ages can take in spectacular scenery and enjoy a relaxing time with family and friends.

The National Park Service also serves an educational purpose, honoring our heroes and preserving important historical landmarks. By visiting the Frederick Douglass National Historic Site, the immigration station on Ellis Island or many other significant sites in our national parks, Americans gain a deeper understanding of our national story and the extraordinary people and events that paved the way for our development and progress.

National Park Week pays tribute to the importance of our national parks and recognizes the dedicated men and women entrusted with their care. The observance also calls attention to the need to reinvest in these national treasures by providing for their sound stewardship in the years to come. As timeless and majestic reminders of our outdoor heritage, America's national parks add immensely to our quality of life and represent a wonderful legacy that must be passed on to future generations.

NOW, THEREFORE, I, GEORGE W. BUSH, President of the United States of America, by virtue of the authority vested in me by the Constitution and laws of the United States of America, do hereby proclaim April 23 through April 29, 2001, as National Park Week. I encourage all Americans to visit our national parks and experience America.

IN WITNESS WHEREOF, I have hereunto set my hand this seventeenth day of April, in the year of our Lord two thousand one, and of the Independence of the United States of America the two hundred and twenty-fifth.

B

[FR Doc. 01-9988

Filed 4-19-01; 8:45 am]

Billing code 3195-01-P